DEPARTMENT OF AGRICULTURE

Animal and Plant Health Inspection Service

[Docket No. APHIS-2014-0012]

General Conference Committee of the National Poultry Improvement Plan and 42nd Biennial Conference

AGENCY: Animal and Plant Health Inspection Service, USDA.

ACTION: Notice of meeting.

SUMMARY: We are giving notice of a meeting of the General Conference Committee of the National Poultry Improvement Plan (NPIP) and the NPIP's 42nd Biennial Conference.

DATES: The General Conference Committee meeting will be held on July 10, 2014, from 1:30 p.m. to 5:30 p.m. The Biennial Conference will meet on July 11, 2014, from 8 a.m. to 5 p.m., and on July 12, 2014, from 8 a.m. to 12 p.m.

ADDRESSES: The meeting and conference will be held at the Omni Charlotte Hotel, 132 E. Trade Street, Charlotte, NC 28202.

FOR FURTHER INFORMATION CONTACT: Dr. Denise Brinson, Director, National Poultry Improvement Plan, VS, APHIS, USDA, 1506 Klondike Road, Suite 101, Conyers, GA 30094; (770) 922-3496.

SUPPLEMENTARY INFORMATION: The General Conference Committee (the Committee) of the National Poultry Improvement Plan, representing cooperating State agencies and poultry industry members, serves an essential function by acting as liaison between the poultry industry and the Department in matters pertaining to poultry health.

Topics for discussion at the upcoming meeting include:

1. Salmonella update.

2. Approval of rapid assays.

3. Centers for Disease Control and Prevention report on Salmonella infections.

4. Agency budget and cooperative agreements updates.

The meeting will be open to the public. However, due to time constraints, the public will not be allowed to participate in the discussions during the meeting. Written statements on meeting topics may be filed with the Committee before or after the meeting by sending them to the person listed under FOR FURTHER INFORMATION CONTACT. Written statements may also be filed at the meeting. Please refer to Docket No. APHIS-2014-0012 when submitting your statements.

This notice of meeting is given pursuant to section 10 of the Federal Advisory Committee Act (5 U.S.C. App. 2).

Done in Washington, DC, this 2nd day of April 2014.
Kevin Shea,
Administrator, Animal and Plant Health Inspection Service.

[FR Doc. 2014-07847 Filed 4-7-14; 8:45 am]

BILLING CODE 3410-34-P